DEPARTMENT OF ENERGY

Federal Energy Regulatory Commission

[Docket No. CP21-470-000]

Freeport LNG Development, L.P., FLNG Liquefaction, LLC, FLNG Liquefaction 2, LLC, FLNG Liquefaction 3, LLC; Notice of Revised Schedule for Environmental Review of the Freeport LNG Capacity Amendment Project

This notice identifies the Federal Energy Regulatory Commission staff's revised schedule for the completion of the environmental assessment (EA) for the Freeport LNG Capacity Amendment Project. The first notice of schedule, issued on December 14, 2021, identified April 22, 2022 as the EA issuance date. However, environmental staff is in the process of assessing Freeport LNG Development, L.P.'s recent supplemental filings regarding air quality emissions due to the capacity modifications. As a result, staff has revised the schedule for issuance of the EA.

Schedule for Environmental Review

Issuance of the Notice of Availability of the EA—May 12, 2022

90-day Federal Authorization Decision Deadline—August 10, 2022

If another schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP21-470), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 22, 2022.
Debbie-Anne A. Reese,
Deputy Secretary.

[FR Doc. 2022-09119 Filed 4-27-22; 8:45 am]

BILLING CODE 6717-01-P